DEPARTMENT OF COMMERCE

Foreign-Trade Zones Board

[S-101-2017]

Foreign-Trade Zone 29—Louisville, Kentucky; Application for Subzone Expansion; Hitachi Automotive Systems Americas, Inc.; Berea, Kentucky

An application has been submitted to the Foreign-Trade Zones (FTZ) Board by the Louisville & Jefferson County Riverport Authority, grantee of FTZ 29, requesting an expansion of Subzone 29F on behalf of Hitachi Automotive Systems Americas, Inc., in Berea, Kentucky. The application was submitted pursuant to the provisions of the Foreign-Trade Zones Act, as amended (19 U.S.C. 81a-81u), and the regulations of the FTZ Board (15 CFR part 400). It was formally docketed on June 29, 2017.

The subzone currently consists of the following sites in Harrodsburg, Kentucky: Site 1 (50 acres) 955 Warwick Road; Site 2 (1.56 acres) 601 Robinson Road; and, Site 3 (1.4 acres) 110 Morgan Soaper Road.

The applicant is now requesting authority to include an additional site: Proposed Site 4 (20 acres), 1150 Mayde Road, Berea. No additional production authority is being requested at this time. As requested, the entire subzone would be subject to the existing activation limit of FTZ 29.

In accordance with the FTZ Board's regulations, Elizabeth Whiteman of the FTZ Staff is designated examiner to review the application and make recommendations to the Executive Secretary.

Public comment is invited from interested parties. Submissions shall be addressed to the FTZ Board's Executive Secretary at the address below. The closing period for their receipt is August 14, 2017. Rebuttal comments in response to material submitted during the foregoing period may be submitted during the subsequent 15-day period to August 29, 2017.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Elizabeth Whiteman at Elizabeth.Whiteman@trade.gov or (202) 482-0473.

Dated: June 29, 2017.
Elizabeth Whiteman,
Acting Executive Secretary.

[FR Doc. 2017-14052 Filed 7-3-17; 8:45 am]

BILLING CODE 3510-DS-P